ENVIRONMENTAL PROTECTION AGENCY

[EPA-HQ-OW-2011-0442; FRL 9932-00-OEI]

Information Collection Request Submitted to OMB for Review and Approval; Comment Request; Microbial Rules (Renewal)

AGENCY: Environmental Protection Agency (EPA).

ACTION: Notice.

SUMMARY: The U.S. Environmental Protection Agency (EPA) has submitted an information collection request (ICR) for the Microbial Rules (EPA ICR No. 1895.09, OMB Control No. 2040-0205) to the Office of Management and Budget (OMB) for review and approval in accordance with the Paperwork Reduction Act (PRA; 44 U.S.C. 3501 et seq.). This is a proposed extension of the ICR, which is currently approved through August 31, 2015. Public comments were previously requested via the Federal Register (80 FR 17040) on March 31, 2015, during a 60-day comment period. This notice allows for an additional 30 days for public comments. A fuller description of the ICR is provided in this renewal notice, including its estimated burden and cost to the public. An Agency may not conduct or sponsor and a person is not required to respond to a collection of information unless it displays a currently valid OMB control number.

DATES: Additional comments may be submitted on or before September 25, 2015.

ADDRESSES: Submit your comments, referencing Docket ID Number EPA-HQ-OW-2011-0442, to (1) EPA online using www.regulations.gov (our preferred method), by email to OW-Docket@epa.gov or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Kevin Roland, Drinking Water Protection Division, Office of Ground Water and Drinking Water, (4606M), Environmental Protection Agency, 1200 Pennsylvania Ave. NW., Washington, DC 20460; telephone number: 202-564-4588: fax number: 202-564-3755; email address: roland.kevin@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The Microbial Rules Renewal ICR examines public water system, air carrier and primacy agency burden and costs for recordkeeping and reporting requirements in support of the microbial drinking water regulations. These recordkeeping and reporting requirements are mandatory for compliance with 40 CFR parts 141 and 142. The following microbial regulations are included: the Surface Water Treatment Rule (SWTR), the Total Coliform Rule (TCR), the Revised Total Coliform Rule (RTCR), the Interim Enhanced Surface Water Treatment Rule (IESWTR), the Filter Backwash Recycling Rule (FBRR), the Long Term 1 Enhanced Surface Water Treatment Rule (LT1ESWTR), the Long Term 2 Enhanced Surface Water Treatment Rule (LT2ESWTR), the Ground Water Rule (GWR) and the Aircraft Drinking Water Rule (ADWR). Future microbial-related rulemakings will be added to this consolidated ICR after the regulations are promulgated and the initial, rule-specific, ICRs are due to expire.

Form Numbers: None.

Respondents/affected entities: Entities potentially affected by this action are public water systems, air carriers and primacy agencies.

Respondent's obligation to respond: Mandatory for compliance with 40 CFR parts 141 and 142.

Estimated number of respondents: 149,864 (total).

Frequency of response: Varies by requirement (i.e., on occasion, monthly, quarterly, semi-annually and annually).

Total estimated burden: 14,683,598 hours (per year). Burden is defined at 5 CFR 1320.03(b).

TTotal estimated cost: $652,507,000 (per year), includes $21,982,000 annualized capital and $88,035,000 operation & maintenance costs.

Changes in the Estimates: There is an increase of 913,658 hours in the total estimated respondent burden compared with the ICR currently approved by OMB. This increase is a result of inclusion of the RTCR burden (839,526 hours) and expanded implementation requirements for the GWR and LT2ESWTR; updating relevant baseline information for each rule with the most current and accurate information available (e.g., Public Water System inventories); and, updating burden to incorporate the results of consultation with stakeholders. Where appropriate and available, estimated violation, waiver and other associated rates have also been updated to reflect current information on rule compliance.

Courtney Kerwin,
Acting Director, Collection Strategies Division.

[FR Doc. 2015-21135 Filed 8-25-15; 8:45 am]

BILLING CODE 6560-50-P